DEPARTMENT OF DEFENSE

Office of the Secretary

[Transmittal No. 21-0C]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives, Transmittal 21-0C.

Dated: March 27, 2023.
Aaron T. Siegel,
Alternate OSD Federal Register Liaison Officer, Department of Defense.

BILLING CODE 5001-06-P

BILLING CODE 5001-06-C

Transmittal No. 21-0C

REPORT OF ENHANCEMENT OR UPGRADE OF SENSITIVITY OF TECHNOLOGY OR CAPABILITY (SEC. 36(B)(5)(C), AECA)

(i) Prospective Purchaser: Government of the United Arab Emirates

(ii) Sec. 36(b)(1), AECA Transmittal No.: 19-37

Date: May 3, 2019

Implementing Agency: Army

Funding Source: National Funds

(iii) Description: On May 3, 2019, Congress was notified by Congressional certification transmittal number 19-37 of the possible sale, under Section 36(b)(1) of the Arms Export Control Act, of up to four hundred fifty-two (452) Patriot Advanced Capability 3 (PAC-3) Missiles Segment Enhanced (MSE). Also included are tools and test equipment, support equipment, publications and technical documentation, personnel training and training equipment, spare and repair parts, facility design, U.S. Government and contractor technical, engineering, and logistics support services, and other related elements of logistics, sustainment and program support. The estimated cost was $2.728 billion. Major Defense Equipment (MDE) constituted $2.7 billion of this total.

This transmittal reports the inclusion of an additional five hundred ten (510) Patriot Advanced Capability 3 (PAC-3) Missiles Segment Enhanced (MSE) (includes 10 fly-to-buy missiles). The following non-MDE items will also be included: tools and test equipment, support equipment, publications and technical documentation, personnel training and training equipment, spare and repair parts, facility design, U.S. Government and contractor technical, engineering, and logistics support services, and other related elements of logistics, sustainment and program support. The total cost of the new MDE articles is $2.728 billion. The total notified cost of MDE will increase to $5.428 billion, and the total notified case value will increase to $5.90 billion.

(iv) Significance: The proposed articles and services will support the United Arab Emirates' ability to maintain a reserve stock of PAC-3 MSE missiles to ensure adequate capability to defend their homeland from regional threats. The proposed sale will also improve the UAE's Air Force and Air Defense's (AFAD's) ability to defend population centers, friendly forces, infrastructure, and other critical assets in support of combined contingency operations, and to promote regional security.

(v) Justification: This proposed sale will support the foreign policy and national security of the United States by helping to improve the security of an important regional partner. The UAE has been, and continues to be, a vital U.S. partner for political stability and economic progress in the Middle East.

(vi) Sensitivity of Technology: The Sensitivity of Technology Statement contained in the original notification applies to items reported here.

(vii) Date Report Delivered to Congress: September 28, 2021

[FR Doc. 2023-06623 Filed 3-30-23; 8:45 am]

BILLING CODE 5001-06-P